DEPARTMENT OF THE INTERIOR

National Park Service

Announcement of Denali National Park Subsistence Resource Commission Meeting

AGENCY: National Park Service, Interior.

SUMMARY: Notice is hereby given in accordance with the Federal Advisory Committee Act that a meeting of the Denali National Park Subsistence Resource Commission will be held at Cantwell, Alaska. The purpose of the meeting will be to continue work on National Park Service subsistence hunting program recommendations including other related subsistence management issues. The meeting will be open to the public. Any person may file with the Commission a written statement concerning the matters to be discussed.

The Subsistence Resource Commission is authorized under Title VIII, section 808, of the Alaska National Interest Lands Conservation Act, Public Law 96-487, and operates in accordance with the provisions of the Federal Advisory Committee Act.

DATES: The meeting will on August 20, 2003, 9 a.m. to 5 p.m., at the Community Hall, Cantwell, Alaska.

In accordance with 41 CFR 102-3.150, we may provide less than 15 days notice in the Federal Register to convene the Commission prior to the October 7, 2003, South-central Regional Advisory Council meeting.

FOR FURTHER INFORMATION CONTACT: Hollis Twitchell, Subsistence and Cultural Resources Manager at (907) 683-9544 or (907) 455-0673.

SUPPLEMENTARY INFORMATION: Notice of this meeting will be published in local newspapers and announced on local radio stations prior to the meeting dates. Locations and dates may need to be changed based on weather or local circumstances. The following agenda items will be discussed:

1. Call to order (SRC Chair).

2. Roll Call and Confirmation of Quorum.

3. SRC Chair and Superintendent's Welcome and Introductions.

4. Review and adopt minutes from last meeting.

5. Additions and corrections to draft agenda.

6. Public and other agency comments.

7. Denali Backcountry Management Plan.

8. Cantwell Resident Zone Hunting Plan Recommendation.

9. North Access Studies.

10. Federal Subsistence Board.

a. Review actions taken on Wildlife Proposals “ May 2003.

b. Call for Wildlife Proposals for 2004 “2005.

c. Federal Fisheries Proposals—update.

d. Customary Trade

11. Alaska Board Game actions.

12. Subsistence Community Use Profiles and Traditional Knowledge studies.

13. Closing public and agency comments.

14. Set time and place of next Denali National Park SRC meeting.

15. Adjournment.

Draft minutes of the meeting will be available for public inspection approximately six weeks after the meeting from: Superintendent, Denali National Park and Preserve, P.O. Box 9, Denali Park, AK 99755.

Marcia Blaszak,
Deputy Regional Director, Alaska.

[FR Doc. 03-18202 Filed 7-17-03; 8:45 am]

BILLING CODE 4312-H7-P